NUCLEAR REGULATORY COMMISSION

[NRC-2010-0267]

Errata Notice; Notice of Public Workshop on a Potential Rulemaking for Spent Nuclear Fuel Reprocessing Facilities

AGENCY: Nuclear Regulatory Commission.

ACTION: Errata Notice; Notice of Public Workshop.

FOR FURTHER INFORMATION CONTACT: Jose Cuadrado, Office of Nuclear Material Safety and Safeguards, U.S. Nuclear Regulatory Commission, Washington, DC 20555-0001, telephone 301-492-3287; e-mail Jose.Cuadrado@nrc.gov.

SUMMARY: The Notice of Public Workshop on a Potential Rulemaking for Spent Nuclear Fuel Reprocessing Facilities issued on July 23, 2010 (75 FR 45167, August 2, 2010), states that the date and location of the public workshops are as follows:

The public workshops will be held in Rockville, Maryland, on September 7-8, 2010, from 9 a.m. to 5 p.m. and in Albuquerque, New Mexico, on the week of October 4, 2010, from 9 a.m. to 5 p.m. The September 7-8, 2010, workshop will be held at the Hilton Washington, DC/Rockville Hotel & Executive Meeting Center, located at 1750 Rockville Pike, Rockville, Maryland. The exact dates and location for the October 2010 workshop in Albuquerque, New Mexico, will be noticed no fewer than ten (10) days prior to the workshop [* * *]

The dates and location for the October 2010 workshop have been finalized. The workshop will be held on October 19-20, 2010, at the Sheraton Albuquerque Uptown Hotel, located at 2600 Louisiana Boulevard NE, Albuquerque, New Mexico.

Dated at Rockville, Maryland this 5th day of October, 2010.
For the Nuclear Regulatory Commission.
Thomas G. Hiltz,
Acting Deputy Director, Special Projects and Technical Support Directorate, Division of Fuel Cycle Safety and Safeguards, Office of Nuclear Material Safety and Safeguards.

[FR Doc. 2010-25874 Filed 10-13-10; 8:45 am]

BILLING CODE 7590-01-P